NATIONAL SCIENCE FOUNDATION

Astronomy and Astrophysics Advisory Committee; Notice of Meeting

In accordance with the Federal Advisory Committee Act (Pub. L. 92-463, as amended), the National Science Foundation (NSF) announces the following meeting:

Name and Committee Code: Astronomy and Astrophysics Advisory Committee (13883) (Virtual).

Date and Time: November 7, 2025; 10 a.m.-5:30 p.m. eastern time.

Place: NSF, 2415 Eisenhower Avenue, Alexandria, VA 22314 (Virtual).

Members and the public may attend this meeting virtually via Zoom. Attendance information for the meeting will be forthcoming on the AAAC website: https://www.nsf.gov/mps/ast/aaac.jsp.

Registration for the virtual meeting can be accessed via the following link: https://nsf.zoomgov.com/webinar/register/WN_I9LU4lOfTcK99mJiWJW49Q.

Type of Meeting: Open.

Contact Person: Dr. Jacqueline Keane, Program Director, Division of Astronomical Sciences, Suite W 9147, National Science Foundation, 2415 Eisenhower Avenue, Alexandria, VA 22314; Telephone: 703-292-8123.

Purpose of Meeting: To hear presentations of current programming by representatives from NSF, NASA, DOE and other agencies relevant to astronomy and astrophysics; to discuss current and potential areas of cooperation between the agencies; to formulate recommendations for continued and new areas of cooperation and mechanisms for achieving them.

Agenda: To provide updates on Agency activities and to discuss the Committees draft annual report due 15 March 2026.

Dated: September 30, 2025.
Crystal Robinson,
Committee Management Officer.

[FR Doc. 2025-19441 Filed 10-2-25; 8:45 am]

BILLING CODE 7555-01-P